DEPARTMENT OF TRANSPORTATION

Federal Aviation Administration

Environmental Impact Statement: Norfolk International Airport, Norfolk, VA

AGENCY: Federal Aviation Administration, DOT.

ACTION: Notice of intent.

SUMMARY: The FAA is issuing this notice to advise the public that an Environmental Impact Statement (EIS) will be prepared for proposed improvements to the Norfolk International Airport (ORF).

In October 2008, the Norfolk Airport Authority (NAA), owner and operator of ORF, prepared a Master Plan Update (MPU) to document changes occurring “in Airport facilities and activity that have taken place since the 1995 Master Plan Update,” to “provide the Authority with a development plan for the Airport through 2024,” and to address compliance shortfalls with published safety standards. Following the MPU, NAA prepared technical documents that focused on the potential construction of a replacement secondary runway. The first was the December 2008 Supplemental Technical Analyses for the Proposed Secondary Runway at Norfolk International Airport and the second was the December 2009 Justification for Proposed Runway 5R/23L. In 2008 NAA also developed an Airport Layout Plan (ALP) that evaluated and noted future development needs at ORF. The ALP included a Capital Improvement Program (CIP) for the Airport to address Federal Aviation Administration (FAA) design standards for the Airport's existing crosswind Runway 14/32. During its planning process, NAA explored a number of alternatives to meet FAA design standards while also providing the flexibility needed to operate without interruption during various conditions. These alternatives included the potential construction of a replacement secondary runway as well as improvements to the existing crosswind Runway 14/32. The FAA will evaluate and consider the Airport's MPU, ALP, and associated planning efforts when considering reasonable and feasible alternatives for the ORF EIS.

Based on these previous planning efforts, the primary components of NAA's proposed project at ORF include:

• Decommissioning and demolition of Runway 14/32

• Constructing a relocated secondary runway parallel to and separated by 876 feet from the existing Runway 5/23. The proposed Runway 5R/23L would be 6,500 feet long by 150 feet wide.

The purpose of the proposed project is:

• To meet relevant FAA airfield safety standards and enhance airfield safety without reducing runway availability. Relevant airfield safety standards include:

○ Runway Safety Area, which is designed to provide additional safety in the event an aircraft leaves the runway;

○ Runway Protection Zone, which is area at ground level prior to the threshold or beyond the runway end to enhance the safety and protection of people and property on the ground; and

○ Runway Object Free Area, which is designed to provide an area clear of objects surrounding a runway.

• To enhance operational efficiency and maintain airfield utility while considering surrounding airspace and ORF's critical design aircraft.

• To provide a safe, efficient southern vehicular access, on Airport property, to the Airport's terminal area.

The proposed project is needed to address the following four primary areas of deficiency at ORF:

• Runway 14/32 does not meet the FAA design standards discussed above for several reasons, including, but not limited to, the location of Robin Hood Road and Lake Whitehurst near the Runway 14 end.

• The current airfield configuration limits operational efficiency, safety and flexibility due to secondary runway length and challenges in taxiing from the airfield layout.

• Provide a flexible two-runway airfield system for aircraft operators and air traffic controllers. Incremental changes over time have severely decreased ORF's ability to remain flexible with increasing airspace conflicts from surrounding military facilities.

• Robin Hood Road, the secondary (southern) access to the Airport, has safety and functional deficiencies. Specifically, several curves in the on-airport section of Robin Hood Road can be improved through a redesign of the roadway.

FOR FURTHER INFORMATION CONTACT: Marcus Brundage, Project Manager, Federal Aviation Administration, Washington Airports District Office, 23723 Air Freight Lane, Suite 210, Dulles, Virginia 20166.

Telephone (703) 661-1365.

SUPPLEMENTARY INFORMATION: The FAA, in consultation with the NAA, will prepare an EIS for the proposed project. The EIS will evaluate a range of alternatives to address FAA design standards for the secondary Runway 14/32. The alternatives to be considered will include the No Build Alternative and a variety of build alternatives, including NAA's proposed alternative as detailed in the 2008 Master Plan Update. The EIS would also evaluate any alternatives identified during the Scoping process to address the project need.

The FAA intends to use the preparation of this EIS to comply with Section 106 of the National Historic Preservation Act of 1966, as amended, Section 7 of the Endangered Species Act, and Section 404 of the Clean Water Act, and any other applicable laws that include public involvement requirements.

The FAA intends to conduct a Scoping process to gather input from all interested parties to help identify any issues of concern associated with the proposed project. In addition to this notice, Federal, state, and local agencies, that have legal jurisdiction and/or special expertise with respect to any potential environmental impacts associated with the proposed project, will be notified by letter of an Agency Scoping Meeting to be held on July 22, 2015 in Norfolk, Virginia.

The general public will be notified of the Scoping process through a legal notice, describing the proposed project. The Notice will be placed in newspapers that have general circulation in the project area. The newspaper notice will notify members of the public that open house style Scoping Meetings will be held to provide the opportunity for the public to offer its input concerning the proposed project. The Public Scoping Meetings are scheduled for the evenings of July 22 & 23, 2015 from 5 p.m. to 8 p.m. at the following locations in Southside Hampton Roads:

• July 22, 2015, 5 p.m.-8 p.m.: Bayside High School, 4960 Haygood Road, Virginia Beach, VA

• July 23, 2015, 5 p.m.-8 p.m.: Holiday Inn Norfolk Airport, 1570 N. Military Highway, Norfolk, Virginia

The Public Scoping Meetings will be open house format with project information displayed and representatives from the FAA and the Airport available to answer questions. Written and oral comments will be accepted at each of the meetings. The public comment period on this Scoping phase of the EIS will end on August 3, 2015.

The purpose of the Scoping Process, as stated above, is to receive input from the public, as well as from Federal, state, and local agencies, that have legal jurisdiction and/or special expertise with respect to any potential environmental impacts associated with the proposed project. During this process, questions regarding the scope and process related to the EIS will be answered. More information about the sponsor's proposed project and the scoping meetings can be found at: www.orf-eis.com.

Comments should be addressed to the listed contact person, or by email to orf-eis@vhb.com. The Scoping comment period is from June 12, 2015 through August 3, 2015.

Issued in Jamaica, New York, June 4, 2015.
Eleanor Scorcia,
Acting Manager, Planning and Programming Branch, Airports Division, Eastern Region.

[FR Doc. 2015-14202 Filed 6-11-15; 8:45 am]

BILLING CODE 4910-13-P